FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573.

Aaron P.B. Production Corporation (NVO & OFF), 501 New County Road, Secaucus, NJ 07094, Officers: Mariusz Piwowarczuk, Vice President, (Qualifying Individual), Czeslaw Golaszewski, Dir./Pres./Sec./Treas.

Atlantic Cargo Logistics LLC (NVO), 120 S. Woodland Blvd., #216, DeLand, FL 32720, Officers: Dietmar Lutte, Manager Member, (Qualifying Individual), Susan Lutte, Member, Application Type: New NVO License.

Bridgeline Logistics Incorporated (OFF), 700 Berron Lane, Barrington, IL 60010, Officer: Machiko K. Hamada, President/CEO, (Qualifying Individual), Application Type: New OFF License.

CALS Logistics USA, Inc. (NVO & OFF), 755 N. Route 83, #215, Bensenville, IL 60106, Officers: Szuyao Liu, Customer Service Officer—Air & Ocean, (Qualifying Individual), Bok Hoe Chun, President, Application Type: New NVO & OFF License.

CBC Freight Solutions LLC (NVO & OFF), 4680 NW 74th Avenue, Miami, FL 33166, Officers: Erick A. Chacin Guaschi, COO, (Qualifying Individual), Pablo Cardenas, President, Application Type: New NVO & OFF License.

Continental Logistic, LLC dba SUR Logistics (OFF), 1322 E. Pacific Coast Highway, Suite B, Wilmington, CA 90744, Officers: Ernie R. Zavaleta, Vice President, (Qualifying Individual), Oscar E. Sorto, CEO, Application Type: New OFF License.

Domek Logistics, L.L.C. (NVO & OFF), 265 Exchange Drive, Suite 203, Crystal Lake, IL 60014, Officer: David Domek, Manager, Application Type: New NVO & OFF License.

Duke System Logistics Inc. (NVO & OFF), 18645 E. Gale Avenue, #233, City of Industry, CA 91748, Officer: Kaihong Yang, President/CEO, Application Type: New NVO & OFF License.

Florida Trade Consolidators Inc. (NVO & OFF), 1400 NW 96th Avenue, Miami, FL 33172, Officer: Samir Asaad, President, (Qualifying Individual), Application Type: Add OFF Service.

Foothills Logistics, Inc. (NVO & OFF), 2045 John Crosland Jr. Way, Charlotte, NC 28208, William A. Pottow, Vice President, (Qualifying Individual), Janine Antonio, President/Secretary, Application Type: License Transfer.

Gina Marie Cianelli dba Global Bookings (OFF), 261 Jerry Allen Ridge, Dallas, GA 30132, Officer: Gina M. Cianelli, Sole Proprietor, (Qualifying Individual), Application Type: New OFF License.

Global Freight Forwarders Inc. (NVO & OFF), 11231 N.W. 20th Street, #126, Miami, FL 33172, Officers: Rosie Huc, Secretary, (Qualifying Individual), Jose Gonzalez, President, Application Type: New NVO & OFF License.

Hermes International Movers Corp. (NVO & OFF), 23-83 31st Street, Astoria, NY 11105, Officers: Ioannis Ladis, Jr., Vice President, (Qualifying Individual), Ioannis Ladis, Sr., President, Application Type: QI Change.

Innovative Logistics LLC (NVO), 201 West Canton Avenue, D, Winter Park, FL 32789, (Qualifying Individual), Todd M. Wilcox, Managing Member, (Qualifying Individual), Ammar Charani, Member, Application Type: New NVO.

John Nikoghossian dba Pactransport (OFF), 9245 Scotmont Drive, Tujunga, CA 91042, Officer: John Nikoghossian, Sole Proprietor, (Qualifying Individual), Application Type: New OFF License.

Mira Transport USA, Inc. (OFF), 16 Pershing Street, Staten Island, NY 10305, Officers: Veronica V. Cairns, President/Secretary/Treasurer, (Qualifying Individual), Serhat Dagtas, Vice President, Application Type: New OFF License.

Nippon Express U.S.A., Inc. (OFF), 590 Madison Avenue, Suite 2401, New York, NY 10022-2524, Officers: Michiya Shimizu, Senior Vice President/General Manager, (Qualifying Individual), Kenryo Senda, President/CEO, Application Type: QI Change.

Phoenician Maritime LLC (NVO & OFF), 12604 Haynes Road, Houston, TX 77066, Officers: George S. Haddad, Vice President, (Qualifying Individual), Ali Assi, President, Application Type: New NVO & OFF License.

Prime Van Lines, Inc. (OFF), 297 Getty Avenue, Paterson, NJ 07503, Officers: Robert F. Lonek, Secretary, (Qualifying Individual), Betty Bendavid, President/Secretary, Application Type: New OFF License.

Starlink Worldwide Express Company Limited (NVO), 15040 71st Avenue, 5E, Flushing, NY 11367, Officer: Jing Y. Zhang, President, (Qualifying Individual), Application Type: New NVO.

Sozo International Inc. dba J & L Logistics (NVO & OFF), 1627 Chico Avenue, S. El Monte, CA 91733, Officers: Zengyu (aka Jenny) Chen, CEO, (Qualifying Individual), Hong Ma, Secretary/Treasurer, Application Type: New NVO & OFF License.

Trans-Trade, Inc. dba Trans-Ocean Services, Inc. (NVO & OFF), 1040 Trade Avenue, #106, DFW Airport, TX 75261, Officers: Robert Carlson, Vice President, (Qualifying Individual), Brad Skinner, CEO, Application Type: Name Change.

Union Cargo Inc. (NVO & OFF), 9195 NW 101st Street, Medley, FL 33178, Officers: Malelly Vidal, Secretary, (Qualifying Individual), Maria De Cardona, President, Application Type: New NVO & OFF License.

USA Worldwide Shipping Inc. (NVO), 590 Belleville Turnpike, Bldg. No. 8, Kearny, NJ 07032, Officers: Samuel X. Mendonca, President, (Qualifying Individual), Anita Dsouza, Vice President, Application Type: New NVO License.

World Commerce Services, L.L.C. dba WLG USA, LLC (NVO & OFF), 920 E. Algonquin Road, Suite 120, Schaumburg, IL 60173, Officers: Duke David, Transportation Operations, (Qualifying Individual), Christopher Wood, CEO, Application Type: Trade Name Change.

Dated: July 30, 2010.
Karen V. Gregory,
Secretary.

[FR Doc. 2010-19152 Filed 8-3-10; 8:45 am]

BILLING CODE P